DEPARTMENT OF HEALTH AND HUMAN SERVICES

Centers for Medicare & Medicaid Services

[Document Identifier: CMS-855]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Medicare Enrollment Application; Form Number: CMS-855 (OMB#: 0938-0685); Use: The primary function of the Medicare enrollment application is to gather information from a provider or supplier that tells us who it is, whether it meets certain qualifications to be a health care provider or supplier, where it practices or renders its services, the identity of the owners of the enrolling entity, and information necessary to establish the correct claims payment. The goal of evaluating and revising the Medicare enrollment applications is to simplify and clarify the information collection without jeopardizing our need to collect specific information.

We are proposing revisions to the CMS-855B to incorporate changes adopted in CMS-1321-FC (71 FR 69624), “Revisions to Payment Policies and Five-Year Review of Relative Value Units Under the Physician Fee Schedule for CY 2007 and Other Changes to Payment Under Part B; Revisions to Ambulance Fee Schedule; Ambulatory Inflation Factor Update for CY 2007.” Specifically, CMS is revising the CMS-855B to:

• Add instructions to Attachment 2 that explain the independent diagnostic testing facility (IDTF) liability insurance requirements in 42 CFR 410.33(g)(6).

• Require that an IDTF submit copies of its comprehensive liability insurance policy in Section 17.

• List all of the new IDTF standards on a separate page in Attachment 2.

• Remove the supplier type “Voluntary Health/Charitable Agency” from Section 2A.

In addition, we are trying to enhance our ability to identify whether a hospital qualifies as a “specialty hospital.” To this end, we propose to revise the CMS-855A to include a specific box that specialty hospitals must check when completing the application. Instructions explaining the definition of a “specialty hospital” will also be added to the form. We also provide clarification of the term “primary practice location” in the instructions in Section 4 of the CMS-855A. This clarification does not change any data elements on the form. We are also removing the data element “Medicare Year-End Cost Report Date” in Section 2 of the CMS-855A, as this information is no longer needed. Frequency: Recordkeeping and Reporting—On occasion; Affected Public: Business or other for-profit and Not-for-profit institutions; Number of Respondents: 400,000; Total Annual Responses: 400,000; Total Annual Hours: 1,001,503.33.

To obtain copies of the supporting statement and any related forms for the proposed paperwork collections referenced above, access CMS' Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on July 10, 2007.

CMS, Office of Strategic Operations and Regulatory Affairs, Division of Regulations Development—C, Attention: Bonnie L Harkless, Room C4-26-05, 7500 Security Boulevard, Baltimore, Maryland 21244-1850.

Dated: May 3, 2007.
Michelle Shortt,
Director, Regulations Development Group, Office of Strategic Operations and Regulatory Affairs.

[FR Doc. E7-9079 Filed 5-10-07; 8:45 am]

BILLING CODE 4120-01-P